DEPARTMENT OF EDUCATION

Authorization of Subgrants for the Disability Innovation Fund—Automated Personalization Computing Project

AGENCY: Office of Special Education and Rehabilitative Services, Department of Education.

ACTION: Notice.

[Catalog of Federal Domestic Assistance Number: 84.421A]

SUMMARY: This notice authorizes the use of subgrants with Disability Innovation Fund—Automated Personalization Computing (APC) Project funds awarded to the Board of Regents of the University of Wisconsin System under CFDA number 84.421A, as provided by the Consolidated Appropriations Act, 2014, for the purpose of carrying out its proposed activities to implement a demonstration of automated personalization computing for individuals with disabilities.

DATES: September 21, 2016.

FOR FURTHER INFORMATION CONTACT: Douglas Zhu, U.S. Department of Education, Rehabilitation Services Administration, 550 12th Street SW., Room 5048, Potomac Center Plaza, 20202-5076. Telephone: (202) 245-6037 or by email: Douglas.Zhu@ed.gov.

If you use a telecommunications device for the deaf or a text telephone, you may call the Federal Relay Service, toll free, at 1-800-877-8339.

SUPPLEMENTARY INFORMATION:

Purpose of Program: The purpose of the Disability Innovation Fund is to support innovative activities aimed at improving the outcomes of “individuals with disabilities,” as defined in section 7(20)(B) of the Rehabilitation Act of 1973, as amended.

Under this authority, the Department has entered into a cooperative agreement with the grantee to implement the Disability Innovation Fund—Automated Personalization Computing Project (APCP). This project is designed to improve outcomes for individuals with disabilities by increasing access to information and communication technologies through automatic personalization of needed assistive technology.

Program Authority: The Consolidated Appropriations Act, 2014 (Pub. L. 113-76).

Applicable Regulations: (a) The Education Department General Administrative Regulations in 34 CFR parts 75, 77, 79, 81, 82, 84, 86, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The priorities and requirements in the notice inviting applications for this program, published July 23, 2015, in the Federal Register (80 FR 43763).

Eligible Entities for Subgrants: A State or public or non-profit agency or organization, including Indian tribes and institutions of higher education.

Discussion: Recognizing that the APC project will need to involve coordination among several different sectors, including cloud or other technology platform providers, assistive technology researchers and manufacturers, and disability advocacy organizations, the Department has required that the grantee set up a partnership involving highly experienced public and private entities. The subgranting authority will allow the grantee to tap unique talent sources with the technical expertise to carry out the activities of the project. Examples of proposed activities to be carried out by these subgrantees could include but are not limited to: Development of accessibility infrastructure for auto-personalization; pilot test coordination (America's Job Centers, employers, and educational institutions); and metrics development, collection, and analysis. Pursuant to 34 CFR 75.708(b)(2), the grantee may make subgrants to eligible entities that have already been identified in its approved application or to other eligible entities that are selected through a competitive process set out in subgranting procedures established by the grantee.

Requirements: If the grantee uses this subgranting authority, the subgrants must be used to directly carry out project activities described in the grantee's application. The grantee must ensure that the subgrants are awarded on the basis of an approved budget that is consistent with the grantee's approved application and all applicable Federal statutory, regulatory, and other requirements. The grantee must also ensure that every subgrant includes any conditions required by Federal statutes and Executive orders and their implementing regulations. Finally, the grantee must ensure that subgrantees are aware of requirements imposed by Federal statutes and regulations, including the Federal anti-discrimination laws enforced by the Department, which are set out at 34 CFR 75.500.

Note: This notice does not solicit applications. The Disability Innovation Fund—Automatic Personalization Computing Project (CFDA number 84.421A) has been awarded to the Board of Regents of the University of Wisconsin System.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: September 16, 2016.
Sue Swenson,
Acting Assistant Secretary for Special Education and Rehabilitative Services.

[FR Doc. 2016-22774 Filed 9-20-16; 8:45 am]

BILLING CODE 4000-01-P